DEPARTMENT OF ENERGY

Basic and Applied Research for Hydrogen Storage

AGENCY: Golden Field Office, U.S. Department of Energy (DOE).

ACTION: Notice of Pre-Solicitation Financial Assistance Solicitation Number DE-PS36-03GO93013.

SUMMARY: The Office of Hydrogen, Fuel Cell, and Infrastructure Technologies of the Department of Energy (DOE) Office of Energy Efficiency and Renewable Energy will be soliciting financial assistance Applications with the objective of supporting hydrogen industry efforts and the President's Hydrogen Fuel Initiative in developing a path to a hydrogen economy. DOE intends to provide financial support under provisions of the Hydrogen Future Act of 1996.

DATES: The Solicitation issuance is planned for mid-July, 2003.

ADDRESSES: In preparation for issuance of the Solicitation, DOE is issuing a draft Statement of Objectives for public comments and to provide the opportunity for the public to submit questions. To obtain a copy of the draft Statement of Objectives, interested parties should access the DOE Hydrogen, Fuel Cells, and Infrastructure Technologies Program Web site at http://www.eere.energy.gov/hydrogenandfuelcells. Also, the draft Statement of Objectives is available at http://e-center.doe.gov by browsing financial assistance opportunities for Solicitation Number DE-PS36-03GO93013. Questions and comments may be submitted to DOE at H2storage@go.doe.gov up to the issuance date of the Solicitation. Once issued, the Solicitation will contain instructions for question submission.

FOR FURTHER INFORMATION CONTACT: James Damm, Contracting Officer via email at h2storage@go.doe.gov. Further information on DOE's Hydrogen, Fuel Cells, and Infrastructure Technologies Program can be viewed at http://www.eere.energy.gov/hydrogenandfuelcells.

SUPPLEMENTARY INFORMATION: Under this Solicitation, DOE will be requesting Applications for two categories of projects. Category 1 is for Research and Development of metal hydrides, chemical hydrides, and carbon-based hydrogen storage materials to be conducted at virtual Centers of Excellence led by DOE national laboratories and including universities, small businesses, industry and/or other federal/national laboratories as partners. Only DOE national laboratories may submit joint application packages in response to Category 1. Category 2 is for Research and Development through cooperative agreements in the following areas: new materials or technologies for hydrogen storage; compressed and liquid hydrogen tank technologies; and off-board hydrogen storage systems. Category 2 Applicants may be universities, small businesses, and industry; Federal or national laboratories may be team members. Award funding, duration and cost sharing requirements are listed in Table 2 of the Statement of Objectives.

Issued in Golden, Colorado, on June 17, 2003.
Jerry L. Zimmer,
Director, Office of Acquisition and Financial Assistance.

[FR Doc. 03-16193 Filed 6-25-03; 8:45 am]

BILLING CODE 6450-01-P